NUCLEAR REGULATORY COMMISSION

[NRC-2016-0005]

Biweekly Notice; Applications and Amendments to Facility Operating Licenses and Combined Licenses Involving No Significant Hazards Considerations

AGENCY: Nuclear Regulatory Commission.

ACTION: Biweekly notice.

SUMMARY: Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from December 22, 2015, to January 4, 2016. The last biweekly notice was published on January 5, 2016.

DATES: Comments must be filed by February 18, 2016. A request for a hearing must be filed March 21, 2016.

ADDRESSES: You may submit comments by any of the following methods (unless this document describes a different method for submitting comments on a specific subject):

• Federal Rulemaking Web site: Go to http://www.regulations.gov and search for Docket ID NRC-2016-0005. Address questions about NRC dockets to Carol Gallagher; telephone: 301-415-3463; email: Carol.Gallagher@nrc.gov.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001; telephone: 301-415-5411, email: Shirley.Rohrer@nrc.gov.

SUPPLEMENTARY INFORMATION:

I. Obtaining Information and Submitting Comments

A. Obtaining Information

Please refer to Docket ID NRC-2016-0005 when contacting the NRC about the availability of information for this action. You may obtain publicly-available information related to this action by any of the following methods:

• Federal Rulemaking Web site: Go to http://www.regulations.gov and search for Docket ID NRC-2016-0005.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section of this document.

• NRC's PDR: You may examine and purchase copies of public documents at the NRC's PDR, Room O1-F21, One White Flint North, 11555 Rockville Pike, Rockville, Maryland 20852.

B. Submitting Comments

Please include Docket ID NRC-2016-0005, facility name, unit number(s), application date, and subject in your comment submission.

The NRC cautions you not to include identifying or contact information that you do not want to be publicly disclosed in your comment submission. The NRC posts all comment submissions at http://www.regulations.gov, as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated, (2) create the possibility of a new or different kind of accident from any accident previously evaluated, or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with NRC regulations, policies and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission by March 21, 2016. The petition must be filed in accordance with the filing instructions in the “Electronic Submissions (E-Filing)” section of this document, and should meet the requirements for petitions for leave to intervene set forth in this section, except that under § 2.309(h)(2) a State, local governmental body, or Federally-recognized Indian Tribe, or agency thereof does not need to address the standing requirements in 10 CFR 2.309(d) if the facility is located within its boundaries. A State, local governmental body, Federally-recognized Indian Tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Persons desiring to make a limited appearance are requested to inform the Secretary of the Commission by March 21, 2016.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

FirstEnergy Nuclear Operating Company, et al., Docket Nos. 50-334 and 50-412, Beaver Valley Power Station, Unit Nos. 1 and 2 (BVPS), Beaver County, Pennsylvania

FirstEnergy Nuclear Operating Company, et al., Docket No. 50-346, Davis-Besse Nuclear Power Station, Unit No. 1 (DBNPS), Ottawa County, Ohio

Date of amendment request: November 19, 2015. A publicly-available version is in ADAMS under Accession No. ML15323A138.

Description of amendment request: The amendment would change the BVPS and DBNPS Technical Specifications (TSs). Specifically, the proposed license amendment would revise TS 5.3.1, “Unit Staff Qualifications,” by incorporating an exception to American National Standards Institute (ANSI) Standard N18.1-1971, “Selection and Training of Nuclear Power Plant Personnel.” This would require licensed operators to comply with the requirements of 10 CFR part 55, “Operators' Licenses,” in lieu of the ANSI standard.

Basis for proposed no significant hazards consideration determination: As required by 10 CFR 50.91(a), the licensee has provided its analysis of the issue of no significant hazards consideration, which is presented below, along with NRC edits in square brackets:

1. Does the proposed amendment involve a significant increase in the probability or consequences of an accident previously evaluated?

Response: No.

The proposed license amendment is a change to the administrative section of the BVPS and DBNPS TS. The NRC has determined that accredited training programs based upon the systems approach to training (SAT) are acceptable for satisfying regulatory requirements contained in 10 CFR 55. The BVPS and DBNPS licensed operator training programs are Institute of Nuclear Power Operations (INPO) National Academy for Nuclear Training (NANT) accredited programs based on the SAT. Hence, the BVPS and DBNPS licensed operator training programs satisfy NRC requirements contained in 10 CFR 55. The ability of licensed operators to respond to and mitigate accidents is unchanged by the proposed TS changes. The proposed changes do not impact the design, operation, or maintenance of any plant system, structure, or component at either BVPS or DBNPS.

Based on the above, FENOC [FirstEnergy Nuclear Operating Company] concludes that the proposed changes do not involve a significant increase in the probability or consequences of an accident previously evaluated.

2. Does the proposed amendment create the possibility of a new or different kind of accident from any accident previously evaluated?

Response: No.

The proposed amendment involves changes to the BVPS and DBNPS TS that aligns the TS with 10 CFR 55. 10 CFR 55 permits the use of INPO accredited licensed operator training programs to meet regulatory requirements. The BVPS and DBNPS licensed operator training programs are accredited, therefore, the NRC requirements are satisfied. The ability of licensed operators to respond to and mitigate accidents is unchanged by the proposed TS changes. The proposed changes do not impact the design, operation, or maintenance of any plant system, structure, or component at either BVPS or DBNPS.

Based on the above discussion, FENOC concludes that the proposed changes do not create the possibility of a new or different kind of accident from any accident previously evaluated.

3. Does the proposed amendment involve a significant reduction in a margin of safety?

Response: No.

The proposed TS changes are administrative in nature. The proposed changes do no impact the design, operation, or maintenance of any plant system, structure, or component at either BVPS or DBNPS. The ability of licensed operators to respond and mitigate accidents is unchanged by the proposed TS changes.

The NRC staff has reviewed the licensee's analysis and, based on this review, it appears that the three standards of 10 CFR 50.92(c) are satisfied. Therefore, the NRC staff proposes to determine that the amendment request involves no significant hazards consideration.

Attorney for licensee: David W. Jenkins, FirstEnergy Nuclear Operating Company, FirstEnergy Corporation, 76 South Main Street, Mail Stop A-GO-15, Akron, OH 44308.

NRC Branch Chief: Douglas A. Broaddus.

Indiana Michigan Power Company (I&M), Docket Nos. 50-315 and 50-316, Donald C. Cook Nuclear Plant, Units 1 and 2, Berrien County, Michigan

Date of amendment request: November 19, 2015. A publicly-available version is in ADAMS under Accession No. ML15328A469.

Description of amendment request: The proposed changes are consistent with the NRC -approved Technical Specifications Task Force (TSTF) Traveler, TSTF-425, Revision 3, “Relocate Surveillance Frequencies to Licensee Control—RITSTF [Risk Informed Technical Specification Task Force] Initiative 5b.” The proposed change relocates surveillance frequencies to a licensee controlled program, the Surveillance Frequency Control Program (SFCP).

Basis for proposed no significant hazards consideration determination: As required by 10 CFR 50.91(a), the licensee has affirmed the applicability of the model proposed no significant hazards consideration published on July 6, 2009 (74 FR 31996). The findings presented in that evaluation are presented below:

1. Does the proposed amendment involve a significant increase in the probability or consequences of an accident previously evaluated?

Response: No.

The proposed changes relocate the specified frequencies for periodic surveillance requirements (SRs) to licensee control under a new SFCP. Surveillance frequencies are not an initiator to any accident previously evaluated. As a result, the probability of any accident previously evaluated is not significantly increased. The systems and components required by the [technical specifications] (TSs) for which the surveillance frequencies are relocated are still required to be operable, meet the acceptance criteria for the SRs, and be capable of performing any mitigation function assumed in the accident analysis. As a result, the consequences of any accident previously evaluated are not significantly increased.

Therefore, the proposed changes do not involve a significant increase in the probability or consequences of an accident previously evaluated.

2. Does the proposed amendment create the possibility of a new or different kind of accident from any accident previously evaluated?

Response: No.

No new or different accidents result from utilizing the proposed changes. The changes do not involve a physical alteration of the plant (i.e., no new or different type of equipment will be installed) or a change in the methods governing normal plant operation. In addition, the changes do not impose any new or different requirements. The changes do not alter assumptions made in the safety analysis. The proposed changes are consistent with the safety analysis assumptions and current plant operating practice.

Consequently, the proposed changes do not create the possibility of a new or different kind of accident from any accident previously evaluated.

3. Does the proposed amendment involve a significant reduction in a margin of safety?

Response: No.

The design, operation, testing methods, and acceptance criteria for systems, structures, and components (SSCs), specified in applicable codes and standards (or alternatives approved for use by the NRC) will continue to be met as described in the plant licensing basis (including the final safety analysis report and bases to TSs), since these are not affected by changes to the surveillance frequencies. Similarly, there is no impact to safety analysis acceptance criteria as described in the plant licensing basis. To evaluate a change in the relocated surveillance frequency, I&M will perform a probabilistic risk evaluation using the guidance contained in NRC approved NEI [Nuclear Energy Institute] 04-10, Rev. 1, in accordance with the TS SFCP. NEI 04-10, Revision 1, methodology provides reasonable acceptance guidelines and methods for evaluating the risk increase of proposed changes to surveillance frequencies consistent with Regulatory Guide 1.177.

Therefore, the proposed changes do not involve a significant reduction in a margin of safety.

The NRC staff has reviewed the analysis and, based on this review, it appears that the three standards of 10 CFR 50.92(c) are satisfied. Therefore, the NRC staff proposes to determine that the amendment request involves no significant hazards consideration.

Attorney for licensee: Robert B. Haemer, Senior Nuclear Counsel, One Cook Place, Bridgman, MI 49106.

NRC Branch Chief: David L. Pelton.

South Carolina Electric and Gas Company Docket Nos. 52-027 and 52-028, Virgil C. Summer Nuclear Station (VCSNS), Units 2 and 3, Fairfield County, South Carolina

Date of amendment request: October 9, 2015. A publicly-available version is in ADAMS under Accession No. ML15282A309.

Description of amendment request: The proposed change, if approved, is to change the VCSNS, Units 2 and 3, Tier 2, Final Safety Analysis Report, with new plant-specific Emergency Action Levels (EALs) and License Conditions 2.D(12)(c), relating to initial EALs.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes, including the modification of VCSNS Units 2&3 License Conditions and submittal of the new plant-specific EALs for both units, do not impact the physical function of plant structures, systems, or components (SSC) or the manner in which SSCs perform their design function. The proposed changes neither adversely affect accident initiators or precursors, nor alter design assumptions. The proposed changes do not alter or prevent the ability of SSCs to perform their intended function to mitigate the consequences of an initiating event within assumed acceptance limits. No operating procedures or administrative controls that function to prevent or mitigate accidents are affected by the proposed changes.

Therefore, the proposed changes do not involve a significant increase in the probability or consequences of an accident previously evaluated.

2. Does the proposed amendment create the possibility of a new or different kind of accident from any accident previously evaluated?

Response: No.

The proposed changes, including the modification of VCSNS Units 2&3 License Conditions and submittal of the new plant-specific EALs for both units, do not involve a physical alteration of the plant (i.e., no new or different type of equipment will be installed or removed) or a change in the method of plant operation. The proposed changes will not introduce failure modes that could result in a new accident, and the changes do not alter assumptions made in the safety analysis. The proposed changes are not initiators of any accidents.

Therefore, the proposed changes do not create the possibility of a new or different kind of accident from any accident previously evaluated.

3. Does the proposed amendment involve a significant reduction in a margin of safety?

Response: No.

Margin of safety is associated with the ability of the fission product barriers (i.e., fuel cladding, reactor coolant system pressure boundary, and containment structure) to limit the level of radiation dose to the public. The proposed changes, including the modification of VCSNS Units 2&3 License Conditions and submittal of the new plant-specific EALs for both units, do not impact operation of the plant or its response to transients or accidents. The proposed changes do not affect the Technical Specifications. The proposed changes do not involve a change in the method of plant operation, and no accident analyses will be affected by the proposed changes.

Additionally, the proposed changes will not relax any criteria used to establish safety limits and will not relax any safety system settings. The safety analysis acceptance criteria are not affected by these proposed changes. The proposed changes will not result in plant operation in a configuration outside the design basis. The proposed changes do not adversely affect systems that respond to safely shut down the plant and to maintain the plant in a safe shutdown condition.

The NRC staff has reviewed the licensee's analysis and, based on this review, it appears that the three standards of 10 CFR 50.92(c) are satisfied. Therefore, the NRC staff proposes to determine that the amendment request involves no significant hazards consideration.

Attorney for licensee: Kathryn M. Sutton, Morgan, Lewis & Bockius LLC, 1111 Pennsylvania Avenue NW., Washington, DC, 20004-2514.

NRC Branch Chief: Lawrence J. Burkhart.

South Carolina Electric and Gas Company Docket Nos. 52-027 and 52-028, Virgil C. Summer Nuclear Station (VCSNS), Units 2 and 3, Fairfield County, South Carolina

Date of amendment request: October 21, 2015. A publicly-available version is in ADAMS under Accession No. ML15295A090.

Description of amendment request: The proposed change, if approved, to depart from certified AP1000 DCD Tier 1 information and from the plant-specific Tier 2 and Tier 2* information in the Updated Final Safety Analysis Report (UFSAR) for VCSNS, Units 2 and 3, by modifying the overall design of the Central Chilled Water subsystem to relocate the Air Cooled Chiller Pump 3 (VWS-MP-03) and associated equipment from the Auxiliary Building to the Annex Building, for each unit respectively. The proposed changes include information in the combined license, Appendix C. An exemption request relating to the proposed changes to the AP1000 DCD Tier 1 is included with the request.

Basis for proposed no significant hazards consideration determination: As required by 10 CFR 50.91(a), the licensee has provided its analysis of the issue of no significant hazards consideration, which is presented below:

1. Does the proposed amendment involve a significant increase in the probability or consequences of an accident previously evaluated?

Response: No.

The Central Chilled Water System (VWS) performs the nonsafety-related function of supplying chilled water to the heating, ventilation, and air conditioning (HVAC) systems. The only safety-related function of the VWS is to provide isolation of the VWS lines penetrating the containment. The low capacity VWS is non-seismically designed.

The change to relocate an air cooled chiller pump and associated equipment and add a chemical feed tank to this pump does not adversely affect the capability of either low capacity VWS subsystem loop to perform the system design function. This change does not have an adverse impact on the response to anticipated transient or postulated accident conditions because the low capacity VWS is a nonsafety-related and non-seismic system. No safety-related structure, system, component (SSC) or function is involved with or affected by this change. The changes to the low capacity VWS subsystem do not involve an interface with any SSC accident initiator or initiating sequence of events, and thus, the probabilities of the accidents evaluated in the plant-specific [Updated Final Safety Analysis Report] UFSAR are not affected. The proposed VWS change does not involve a change to the predicted radiological releases due to postulated accident conditions, thus, the consequences of the accidents evaluated in the UFSAR are not affected.

Therefore, the proposed changes do not involve a significant increase in the probability or consequences of an accident previously evaluated.

2. Does the proposed amendment create the possibility of a new or different kind of accident from any accident previously evaluated?

Response: No.

The proposed changes to the nonsafety-related low capacity VWS subsystem do not affect any safety-related equipment, nor do they add any new interfaces to safety-related SSCs. No system or design function or equipment qualification is affected by these changes. The changes do not introduce a new failure mode, malfunction or sequence of events that could affect safety-related equipment.

Therefore, the proposed changes do not create the possibility of a new or different kind of accident from any accident previously evaluated.

3. Does the proposed amendment involve a significant reduction in a margin of safety?

Response: No.

The VWS is a nonsafety-related system that performs the defense-in-depth function of providing a reliable source of chilled water to various HVAC subsystems and unit coolers and the safety-related function of providing isolation of the VWS lines penetrating the containment. The changes to the VWS do not affect the VWS containment penetrations or any other safety-related equipment or fission product barriers. The requested changes will not affect any design code, function, design analysis, safety analysis input or result, or design/safety margin. No safety analysis or design basis acceptance limit/criterion is challenged or exceeded by the requested changes.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn M. Sutton, Morgan, Lewis & Bockius LLC, 1111 Pennsylvania Avenue NW., Washington, DC, 20004-2514.

NRC Branch Chief: Lawrence J. Burkhart.

South Carolina Electric and Gas Company Docket Nos. 52-027 and 52-028, Virgil C. Summer Nuclear Station (VCSNS) Units 2 and 3, Fairfield County, South Carolina

Date of amendment request: November 4, 2015. A publicly-available version is in ADAMS under Accession No. ML15308A595. This accession number is corrected in this notice.

Description of amendment request: The proposed change, if approved, to depart from certified AP1000 Tier 1 information and from the plant-specific Tier 2 Updated Final Safety Analysis Report (UFSAR) information by reconfiguring the signal processing in the two processor cabinets currently planned for the Annex Building and relocating the cabinets to the Auxiliary Building. The proposed changes also change the hardware and reduce the number of functions of the cabinet as well as changing the power supply to one backed by separate diesel generators. Because this proposed change requires a departure from Tier 1 information in the Westinghouse Advanced Passive 1000 Design Control Document (DCD), the licensee also requested an exemption from the requirements of the Generic DCD Tier 1 in accordance with 10 CFR 52.63(b)(1). The accession number associated with this amendment request and previous sentence are the subject of this correction.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the design of the diverse actuation system (DAS) conform to the DAS fire-induced spurious actuation (smart fire) of the squib valves and single point failure criteria. The DAS is a nonsafety-related diverse backup to the safety-related protection and safety monitoring system (PMS). The proposed changes do not involve any accident initiating component/system failure or event, thus the probabilities of the accidents previously evaluated are not affected. The affected equipment does not adversely affect or interact with safety-related equipment or a radioactive material barrier, and this activity does not involve the containment of radioactive material. Thus, the proposed changes would not affect any safety-related accident mitigating function. The radioactive material source terms and release paths used in the safety analyses are unchanged, thus the radiological releases in the Updated Final Safety Analysis Report (UFSAR) accident analyses are not affected.

Therefore, the proposed changes do not involve a significant increase in the probability or consequences of an accident previously evaluated.

2. Does the proposed amendment create the possibility of a new or different kind of accident from any accident previously evaluated?

Response: No.

The proposed changes to the design of the DAS do not alter the performance of the DAS as a nonsafety-related diverse backup to the PMS. The new configuration within two independent and separate processor cabinets located in the Auxiliary Building do not adversely affect any safety-related equipment or function, therefore no new accident initiator or failure mode is created. The changes to provide independent power supplies to the separate processor cabinets do not have any impact on any safety-related equipment or function, and no new accident or failure mode is created. The proposed changes do not create a new fault or sequence of events that could lead to a radioactive release. The changes do not adversely affect any safety-related equipment or structure. Therefore, the proposed changes do not create the possibility of a new or different kind of accident from any accident previously evaluated.

3. Does the proposed amendment involve a significant reduction in a margin of safety?

Response: No.

The proposed changes to the design of the DAS do not affect any safety-related equipment or function. The proposed changes do not have any adverse effect on the ability of safety-related structures, systems, or components to perform their design basis functions. No safety analysis or design basis acceptance limit/criterion is challenged or exceeded by the proposed changes, thus no margin of safety is reduced. Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Kathryn M. Sutton, Morgan, Lewis & Bockius LLC, 1111 Pennsylvania Avenue NW., Washington, DC, 20004-2514.

NRC Branch Chief: Lawrence J. Burkhart.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-413 and 50-414, Catawba Nuclear Station, Units 1 and 2, York County, South Carolina

Date of amendment request: November 24, 2014, as supplemented by letters dated January 15, 2015, July 31, 2015, August 17, 2015, and October 23, 2015.

Brief description of amendments: The amendments revised Technical Specifications to correct non-conservative setpoints. Specifically, the Allowable Value and Nominal Trip Setpoint for the Auxiliary Feedwater Loss of Offsite Power (Function 6.d) are modified. Additionally, the values in the associated Surveillance Requirement 3.3.5.2 would be modified to the same values. As part of the change, the licensee is also proposing to add the applicable footnotes in accordance with Technical Specification Task Force-493, Revision 4, “Clarify Application of Setpoint Methodology for LSSS Functions.”

Date of issuance: December 18, 2015.

Effective date: As of the date of issuance and shall be implemented within 60 days of issuance.

Amendment Nos.: 277 and 273. A publicly-available version is in ADAMS under Accession No. ML15320A333; documents related to these amendments are listed in the Safety Evaluation (SE) enclosed with the amendments.

Facility Operating License Nos. NPF-35 and NPF-52: Amendments revised the Facility Operating Licenses and Technical Specifications.

Date of initial notice in Federal Register: March 31, 2015 (80 FR 17085). The supplemental letters dated January 15, 2015, July 31, 2015, August 17, 2015, and October 23, 2015, provided additional information that clarified the application, did not expand the scope of the application as originally noticed, and did not change the staff's original proposed no significant hazards consideration determination as published in the Federal Register.

The Commission's related evaluation of the amendment is contained in an SE dated December 18, 2015.

No significant hazards consideration comments received: No.

Exelon Generation Company, LLC, Docket Nos. 50-317 and 50-318, Calvert Cliffs Nuclear Power Plant, Unit Nos. 1 and 2, Calvert County, Maryland

Date of amendment request: February 13, 2014, as supplemented by letter dated June 22, 2015.

Brief description of amendments: These amendments revise Technical Specification (TS) 3.4.10, “Pressurizer Safety Valves,” to modify as-found lift tolerances in the surveillance requirement (SR). The changes to the SR reduce the lift setpoint for valve RC-201, and increase the allowable as-found setpoint tolerance on valves RC-200 and RC-201.

Date of issuance: December 30, 2015.

Effective date: As of the date of issuance and shall be implemented at or before the end of the second refueling outage following issuance.

Amendment Nos.: 315 and 293. A publicly-available version is in ADAMS under Accession No. ML15279A191; documents related to these amendments are listed in the Safety Evaluation (SE) enclosed with the amendments.

Renewed Facility Operating License Nos. DPR-53 and DPR-69: Amendments revised the Renewed Facility Operating Licenses and TSs.

Date of initial notice in Federal Register: July 22, 2014 (79 FR 42549). The supplemental letter dated June 22, 2015, provided additional information that clarified the application, did not expand the scope of the application as originally noticed, and did not change the NRC staff's original proposed no significant hazards consideration determination as published in the Federal Register.

The Commission's related evaluation of the amendment is contained in an SE dated December 30, 2015.

No significant hazards consideration comments received: No.

NextEra Energy Duane Arnold, LLC, Docket No. 50-331, Duane Arnold Energy Center, Linn County, Iowa

Date of amendment request: January 26, 2015.

Brief description of amendment: The amendment revised the Duane Arnold Energy Center technical specifications (TSs) Section 3.8.3, “Diesel Fuel Oil, Lube Oil, and Starting Air,” by removing the current stored diesel fuel oil, and lube oil numerical volume requirements from the TS and replacing them with diesel operating time requirements consistent with Technical Specifications Task Force (TSTF) Traveler TSTF-501, Revision 1, “Relocate Stored Fuel Oil and Lube Oil Volume Values to Licensee Control.”

Date of issuance: December 22, 2015.

Effective date: As of the date of issuance and shall be implemented within 60 days.

Amendment No.: 292. A publicly-available version is in ADAMS under Accession No. ML15310A082; documents related to this amendment are listed in the Safety Evaluation (SE) enclosed with the amendment.

Renewed Facility Operating License No. DPR-49: The amendment revised the Renewed Facility Operating License and Technical Specifications.

Date of initial notice in Federal Register: May 12, 2015 (80 FR 27200).

The Commission's related evaluation of the amendment is contained in an SE dated December 22, 2015.

No significant hazards consideration comments received: No.

South Carolina Electric & Gas Company, Docket Nos. 52-027 and 52-028, Virgil C. Summer Nuclear Station (VCSNS) Units 2 and 3, Fairfield County, South Carolina

Date of amendment request: June 12, 2014, supplemented by letters dated July 9, October 9, and November 21, 2014 and June 2, 2015.

Description of amendment: The amendment authorizes a departure from VCSNS Units 2 and 3 plant-specific AP1000 Design Control Document (DCD) Tier 2* material contained within the VCSNS Units 2 and 3 Updated Final Safety Analysis Report to correct editorial errors and ensure consistency with the existing UFSAR Tier 1 and Tier 2 information.

Date of issuance: November 20, 2015.

Effective date: As of the date of issuance and shall be implemented within 30 days of issuance.

Amendment No.: 37. A publicly-available version is in ADAMS at Accession No. ML15280A438; documents related to this amendment are listed in the Safety Evaluation enclosed with the amendment.

Facility Combined Licenses No. NPF-93 and NPF-94: Amendment revised the Facility Combined Licenses.

Date of initial notice in Federal Register: September 30, 2014 (79 FR 58812).

The Commission's related evaluation of the amendment is contained in the Safety Evaluation dated November 20, 2015. The supplemental letters dated July 9, October 9, and November 21, 2014 and June 2, 2015, provided additional information that clarified the application, did not expand the scope of the application as originally noticed, and did not change the staff's original proposed no significant hazards consideration determination as published in the Federal Register.

No significant hazards consideration comments received: No.

STP Nuclear Operating Company, Docket Nos. 50-498 and 50-499, South Texas Project, Units 1 and 2 (STP), Matagorda County, Texas

Date of amendment request: April 23, 2015.

Brief description of amendment: The amendment revised the STP Technical Specification Limiting Condition for Operation (LCO) 3.4.5, “Steam Generator Tube Integrity,” Surveillance Requirement 4.4.5.2, Administrative Controls Specification 6.8.3.o, “Steam Generator Program,” and Specification 6.9.1.7, “Steam Generator Tube Inspection Report.” These changes are needed to address implementation issues associated with the inspection periods, and address other administrative changes and clarifications.

Date of issuance: December 28, 2015.

Effective date: As of the date of issuance and shall be implemented within 90 days from the date of issuance.

Amendment Nos.: Unit 1—209; Unit 2—196. A publicly-available version is in ADAMS under Accession No. ML15342A003; documents related to these amendments are listed in the Safety Evaluation enclosed with the amendments.

Facility Operating License Nos. NPF-76 and NPF-80: The amendments revised the Facility Operating Licenses and Technical Specifications.

Date of initial notice in Federal Register: June 23, 2015 (80 FR 35985).

The Commission's related evaluation of the amendments is contained in a Safety Evaluation dated December 28, 2015.

No significant hazards consideration comments received: No.

Tennessee Valley Authority, Docket Nos. 50-259, 50-260, and 50-296, Browns Ferry Nuclear Plant, Units 1, 2, and 3, Limestone County, Alabama

Date of amendment request: February 17, 2015, as supplemented by letter dated September 25, 2015.

Brief description of amendments: The amendments revised Table 3.3.6.1-1, “Primary Containment Isolation Instrumentation,” of the Technical Specifications (TSs) to correct an inadvertent omission made by Amendment Nos. 251, 290, and 249, for Units 1, 2, and 3, respectively (ADAMS Accession No. ML042730028). Specifically, the revision added the number “3” to indicate Mode 3 for Function 5.g, Standby Liquid Control System (SLCS) initiation, to the column titled “Applicable Modes or Other Specified Conditions.” With this inadvertent error corrected, SLCS is required to be operable in Modes 1, 2, and 3.

Date of issuance: December 23, 2015.

Effective date: As of the date of issuance and shall be implemented within 60 days of issuance.

Amendment Nos.: 294 (Unit 1), 319 (Unit 2), and 277 (Unit 3). A publicly-available version is in ADAMS under Accession No. ML15321A472; documents related to these amendments are listed in the Safety Evaluation (SE) enclosed with the amendments.

Renewed Facility Operating License Nos. DPR-33, DPR-52, and DPR-68: Amendments revised the Renewed Facility Operating Licenses and TSs.

Date of initial notice in Federal Register: May 26, 2015 (80 FR 30102). The supplemental letter dated September 25, 2015, provided additional information that clarified the application, did not expand the scope of the application as originally noticed, and did not change the staff's original proposed no significant hazards consideration determination as published in the Federal Register.

The Commission's related evaluation of the amendment is contained in an SE dated December 23, 2015.

No significant hazards consideration comments received: No.

Tennessee Valley Authority, Docket No. 50-390, Watts Bar Nuclear Plant (WBNP), Unit 1, Rhea County, Tennessee

Date of amendment request: August 13, 2015, as supplemented by letter dated August 27, 2015.

Brief description of amendment: The amendment revised the facility operating license to modify a license condition and add a new license condition to reflect the implementation of the dual-unit Fire Protection Report for the WBNP.

Date of issuance: December 23, 2015.

Effective date: As of the date of issuance and shall be implemented prior to WBNP, Unit 2, entry into Mode 4, “Hot Shutdown.”

Amendment No.: 105. A publicly-available version is in ADAMS under Accession No. ML15344A318; documents related to this amendment are listed in the Safety Evaluation (SE) enclosed with the amendment.

Facility Operating License No. NPF-90: Amendment revised the Facility Operating License.

Date of initial notice in Federal Register: September 4, 2015 (80 FR 53581). The supplemental letter dated August 27, 2015, provided additional information that clarified the application, did not expand the scope of the application as originally noticed, and did not change the staff's original proposed no significant hazards consideration determination as published in the Federal Register.

The Commission's related evaluation of the amendment is contained in an SE dated December 23, 2015.

No significant hazards consideration comments received: No.

Dated at Rockville, Maryland, this 7th day of January 2016.
For the Nuclear Regulatory Commission.
Anne T. Boland,
Director, Division of Operating Reactor Licensing, Office of Nuclear Reactor Regulation.

[FR Doc. 2016-00686 Filed 1-15-16; 8:45 am]

BILLING CODE 7590-01-P